DEPARTMENT OF EDUCATION

[CFDA 84.060A]

Indian Education Formula Grants to Local Educational Agencies—Notice Inviting Part II of Applications for Fiscal Year (FY) 2007

AGENCY: Office of Elementary and Secondary Education, Department of Education.

SUPPLEMENTARY INFORMATION: Background: On January 19, 2007, the Department published a Notice in the Federal Register inviting applications under Part I of the Indian education formula grants application (72 FR 2501). In that Notice, the Department established a deadline of February 20, 2007 for Part I of the application and stated that the Department would publish a notice inviting applications and establishing a deadline for Part II of that application once the information collection requirements were approved by the Office of Management and Budget (OMB). OMB has approved those requirements. This Notice invites applications and establishes a deadline for submission of Part II of the application. Submissions under Part II will be accepted only from those eligible applicants that met the Part I deadline.

Purpose of Program: The Indian Education Formula Grant to Local Educational Agencies program provides grants to support local educational agencies (LEAs) and other eligible entities described in this notice in their efforts to reform and improve elementary and secondary school programs that serve Indian students. The Department funds programs designed to help Indian students to meet the same challenging State academic content and student academic achievement standards used for all students. In addition, under section 7116 of the Elementary and Secondary Education Act of 1965, as amended (ESEA), the Secretary will, upon receipt of an acceptable plan for the integration of education and related services, authorize the entity receiving the funds under this program to consolidate, in accordance with the entity's plan, the funds for any Federal program exclusively serving Indian children, or the funds reserved under any Federal program to serve exclusively Indian children, that are awarded under a statutory or administrative formula to the entity, for the purposes of providing education and related services to Indian students. Instructions for submitting an integration of education and related services plan are included in the web-based EASIE application system described elsewhere in this notice under Application Process and Submission Information.

Eligible Applicants: LEAs, certain schools funded by the Department of the Interior-Bureau of Indian Education, and Indian tribes under certain conditions, as prescribed by section 7112(c) of the ESEA.

Application Process and Submission Information: The application process for the Indian Education Formula Grants to Local Educational Agencies program has changed to the Formula Grant Electronic Application System for Indian Education (EASIE), an easy-to-use, web-based application system. Formula Grant EASIE provides special features that will progressively enhance data availability and performance reporting for applicants, including the use of data from State submissions to EDFacts, the Department's data collection system containing performance information from State educational agencies about schools and Federal education programs. To the extent that your State has provided the necessary EDFacts data files, Formula Grant EASIE will be able to interface with EDFacts and pull those LEA-specific data into the application. Additionally, this new system allows the Department to review applications and interact online with applicants during the application review and approval process.

Although you may download and print sample forms from the system, the application must be submitted electronically through the Formula Grant EASIE unless you do not have Internet access and have made prior arrangements with the Department. For approval to submit a paper application, you must contact the EDFacts Partner Support Center (see the contact information listed elsewhere in this notice under FOR FURTHER INFORMATION CONTACT) prior to the deadline for transmittal of a Part II application. If you are approved to submit a paper application, you must meet the submission deadlines included in this notice.

Registration for Formula Grant EASIE is required. For information on how to register, contact the EDFacts Partner Support Center listed elsewhere in this notice under FOR FURTHER INFORMATION CONTACT.

The Formula Grant EASIE application is divided into two parts—Part I and Part II.

Part I, Student Count, provides the appropriate data entry screens to submit your Indian student count totals. The deadline for submission of Indian student count totals under Part I was February 20, 2007. Applications that did not meet the deadline for Part I will not be considered for funding in the initial allocation of awards.

Part II, Program and Budget Information, provides your award amount based on the Indian student count total submitted under Part I. Part II also enables you to enter student performance data, identify your project's services and activities, and build a realistic program budget based on a known grant amount. Based on student assessment data, you will select your program objectives and services from a variety of menu options that were designed with grantee input.

DATES: Part II of Formula Grant EASIE Available: April 3, 2007.

Deadline for Transmittal of PART II Applications: May 3, 2007.

Applications or data submissions under Part II will be accepted only from those eligible applicants that met the Part I deadline.

If funds become available after the initial allocation of funds, applications not meeting the deadline for Part I may be considered for funding if the Secretary determines, under section 7118(d) of the ESEA, that reallocation of those funds to applicants filing after the deadline would best assist in advancing the purposes of the program. However, the amount and length of an individual award, if any, may be less than the applicant would have received had the application been submitted on time.

Deadline for Intergovernmental Review: June 4, 2007.

Available Funds: $95,331,060.

Estimated Range of Awards: $3,000-$2,000,000.

Estimated Average Size of Awards: $80,422.

Estimated Number of Awards: 1,185.

Note: The Department is not bound by any estimates in this notice.

Project Period: 12 months.

Applicable Regulations: The Education Department General Administrative Regulations (EDGAR) in 34 CFR Parts 75, 77, 79, 80, 81, 82, 84, 85, 86, 97, 98, and 99.

Note: The regulations in 34 CFR part 79 apply to all applicants except federally recognized Indian tribes.

Performance Measures: The Secretary has established the following key performance measures for assessing the effectiveness of the Indian Education Formula Grants to Local Educational Agency program: (1) The percentage of American Indian and Alaska Native students in grades 4 and 8 who are at or above the basic level in reading on the National Assessment of Educational Progress (NAEP); and (2) the percentage of American Indian and Alaska Native students in grades 4 and 8 who are at or above the basic level in mathematics on the NAEP.

FOR FURTHER INFORMATION CONTACT: Contact the EDFacts Partner Support Center, Telephone: 877-457-3336 (877-HLP-EDEN) or by e-mail at: eden_OIE@ed.gov

Individuals who use a telecommunications device for the deaf (TDD) may call the EDFacts Partner Support Center 1-888-403-3336 (888-403-EDEN).

Individuals with disabilities may obtain a copy of the application package or a copy of this document in an alternative format (e.g., Braille, large print, audiotape, or computer diskette) on request by contacting the EDFacts Partner Support Center.

Electronic Access to This Document:

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 7421 et seq.

Dated: March 29, 2007.
Kerri L. Briggs,
Acting Assistant Secretary for Elementary and Secondary Education.

[FR Doc. E7-6172 Filed 4-2-07; 8:45 am]

BILLING CODE 4000-01-P